DEPARTMENT OF ENERGY

Federal Energy Regulatory Commission

[Project No. 2105-089]

Pacific Gas and Electric Company; Notice Granting Late Intervention

December 18, 2003.

On December 26, 2002, the Commission issued a notice of application accepted for filing and soliciting motions to intervene and protests for the Upper North Fork Feather River Hydroelectric Project 2105, located in the vicinity of the community of Chester, Plumas County, California. The notice established June 20, 2003, as the deadline for filing motions to intervene.

On September 10, 2003, the Anglers Committee Against Artificial Whitewater filed a late motion to intervene. Granting the motion to intervene will not unduly delay or disrupt the proceeding, or prejudice other parties to it. Therefore, pursuant to Rule 214,¹ the motion to intervene filed by the Anglers Committee against Artificial Whitewater is granted, subject to the Commission's rules and regulations.

¹ 18 CFR 385.214 (2003).

Magalie R. Salas,
Secretary.

[FR Doc. E3-00639 Filed 12-24-03; 8:45 am]

BILLING CODE 6717-01-P